DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of March and April, 2002.

In order for an affirmative determination to be made and a certification of eligibility to apply for worker adjustment assistance to be issued, each of the group eligibility requirements of Section 222 of the Act must be met.

(1) that a significant number or proportion of the workers in the workers' firm, or an appropriate subdivision thereof, have become totally or partially separated,

(2) that sales or production, or both, of the firm or subdivision have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-40,306; Allgon Telecom, Ltd, Ft. Worth, TX

TA-W-40,637; Steelcraft, Inc., Warren, OH

TA-W-40,803; Lodestar Industrial Contractors, Ltd, Colville, WA

TA-W-40,507; Dresser Piping Specialties, Bradford, PA

In the following cases, the investigation revealed that the criteria for eligibility have not been met for the reasons specified.

Increased imports did not contribute importantly to worker separations at the firm.

TA-W-40,592; Spectrian, Sunnyvale, CA

TA-W-40,952; United Plastic Group, a/k/a Supreme Plastics, Inc., Pharr, TX

TA-W-41,131; David White LLC, Berlin, WI

The workers firm does not produce an article as required for certification under section 222 of the Trade Act of 1974.

TA-W-40,974; XE Systems, Inc., East Rochester, NY

TA-W-41,096; Greystar Corp., Houston, TX

TA-W-41,185; Pittsburgh Logistics Systems, A Subsidiary of Quadrivus, Inc., on Location at LTV Steel Corp., Independence, OH

TA-W-41,185A; Pittsburgh Logistics Systems, A Subsidiary of Quadrivus, Inc., Rochester, PA

TA-W-41,146; Voest-Alpine Industries, A Subsidiary of VA Tech, Cannonsburgh, PA

TA-W-40,906 & A; Quark, Inc., Denver, CO and Quark Enterprises Systems, Dowers Grove, IL

TA-W-41,118; Samuel Steel Pickling Co., Twinsburgh, OH

The investigation revealed that criteria (2) has not been met. Sales or production did not decline during the relevant period as required for certification.

TA-W-40,419; Flextronics International, Portsmouth, NH

TA-W-40,489A; Tilden Mining Co., Ishpeming, MI

The investigation revealed that criteria (1) and (2) have not been met. A significant number or proportion of the workers in the workers' firm, or an appropriate subdivision did not become totally or partially separated. Sales or production did not decline during the relevant period as required for certification.

TA-W-40,999; Cleere Drilling Co., San Angelo, TX

Affirmative Determinations for Worker Adjustment Assistance

The following certifications have been issued; the date following the company name and location of each determination references the impact date for all workers of such determination.

TA-W-41,071; Tyco International Ltd, Tyco Electronics Corp., Arab, AL: January 29, 2000.

TA-W-39,885; Conveyco Manufacturing, Clackamas, OR: August 5, 2000.

TA-W-39,886; Consolidated Steel Services, Inc., Fallentimber, PA: August 8, 2000.

TA-W-39,985; Salz Leathers, Inc., Santa Cruz, CA: August 22, 2000.

TA-W-40,540; Beta Steel Corp., Portage, IN: December 26, 2000.

TA-W-40,241; L and R Aquaculture and Catfish Farms, Inc., d/b/a Coastal Catfish, Old Ocean, TX: September 28, 2000.

TA-W-40,845; Contact Lumber Co., Clear Pine Mouldings, Inc., Prineville, OR: January 8, 2001.

TA-W-40,970; Pleasant Hill Manufacturing, Adair, OK: September 29, 2001.

TA-W-41,157; Kolenda Tool and Die, Inc., Wyoming, MI: January 15, 2001.

TA-W-41,171 Western Log Homes, Inc., Chiloquin, OR: November 2, 2000.

TA-W-40,085; NACCO Materials, Sulligent, AL: September 7, 2000.

TA-W-40,250; Urick Foundry, Erie, PA: October 1, 2000.

TA-W-40,432; Phoenix Finishing Corp., Div. of NRB Industries, Gaffney, SC: December 1, 2000.

TA-W-40,457; Trane Co., A Division of American Standard, La Crosse, WI: October 30, 2000.

TA-W-40,489; Empire Iron Mining Partnership, Palmer, MI: November 30, 2000.

TA-W-40,727; Wells Lamont, Eupora, MS: December 21, 2000.

TA-W-40,771; 3M Company—Packaging Systems Div., Bristol, PA: December 27, 2000.

TA-W-40,831; Burrows Paper Corp., Packaging East, Little Falls, NY: December 31, 2000.

TA-W-40,863; MacDermid Graphic Arts, Inc., Adams, MA: February 6, 2001.

TA-W-40,899; E.J. Footwear, Blairsville, GA: October 24, 2000.

TA-W-40,911; Rhodia, Inc., New Brunswick, NJ: December 12, 2000.

TA-W-40,992; CHF Industries, Inc., Loris, SC: January 29, 2001.

TA-W-40,994; Southwire Company, Southwire Machinery Div., Carrollton, GA: January 31, 2001.

TA-W-41,139; Garvin Industries, Inc., Grand Haven Stamping Plant, Grand Haven, MI: February 20, 2001.

Also, pursuant to Title V of the North American Free Trade Agreement Implementation Act (Pub. L. 103-182) concerning transitional adjustment assistance hereinafter called (NAFTA-TAA) and in accordance with Section 250(a), Subchapter D, Chapter 2, Title II, of the Trade Act as amended, the Department of Labor presents summaries of determinations regarding eligibility to apply for NAFTA-TAA issued during the months of March and April, 2002.

In order for an affirmative determination to be made and a certification of eligibility to apply for NAFTA-TAA the following group eligibility requirements of section 250 of the Trade Act must be met:

(1) that a significant number or proportion of the workers in the workers' firm, or an appropriate subdivision thereof, (including workers in any agricultural firm or appropriate subdivision thereof) have become totally or partially separated from employment and either—

(2) that sales or production, or both, of such firm or subdivision have decreased absolutely,

(3) that imports from Mexico or Canada of articles like or directly competitive with articles produced by such firm or subdivision have increased, and that the increases imports contributed importantly to such workers' separations or threat of separation and to the decline in sales or production of such firm or subdivision; or

(4) that there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05983; Freightliner LLC, Cleveland Truck Manufacturing Plant, Cleveland, NC

NAFTA-TAA-05967; Simmons Food, Inc., McAlester, OK

NAFTA-TAA-05941; BASF Corp., Wyandote, MI

NAFTA-TAA-05923; David White LLC, Berlin, WI

NAFTA-TAA-05843; Vishay Dale Electronics, Film Div., Norfolk, NE

NAFTA-TAA-05735; Corning Cable Systems, Telecommunications Cable Plant, Hickory, NC

NAFTA-TAA-05653; Empire Iron Mining Partnership, Palmer, MI

NAFTA-TAA-05231 & A; Allen Edmonds Shoe Corp., d/b/a/ Maine Shoe, Lewiston, ME and Wilton, ME

NAFTA-TAA-05873; Precision Kidd Steel Co., Inc., Aliquippa, PA

Affirmative Determinations NAFTA-TAA

NAFTA-TAA-05980; Jantzen, Inc., Portland Sewing Facility, Portland, OR: March 5, 2001.

NAFTA-TAA-05892; Garvin Industries, Inc., Grand Haven Stamping Plant, Grand Haven, MI: February 20, 2001.

NAFTA-TAA-05852; Southwire Co., Southwire Machinery Div., Carrollton, GA: February 7, 2001.

NAFTA-TAA-5541; Donaldson—Aercology, Old Saybrook Div., Old Saybrook, CT: November 9, 2000.

NAFTA-TAA-05503; Telair International, Rancho Domingez, CA: October 25, 2000.

NAFTA-TAA-05799; Aalfs Manufacturing, Inc., Texarkana, AR: January 29, 2001.

NAFTA-TAA-05203; Consolidated Steel Services, Inc., Fallentimber, PA: August 8, 2000.

I hereby certify that the aforementioned determinations were issued during the months of March and April, 2002. Copies of these determinations are available for inspection in Room C-5311, U.S. Department of Labor, 200 Constitution Avenue, NW., Washington, DC 20210 during normal business hours or will be mailed to persons who write to the above address.

Dated: April 5, 2002.
Edward A. Tomchick,
Director, Division of Trade Adjustment Assistance.

[FR Doc. 02-9349 Filed 4-16-02; 8:45 am]

BILLING CODE 4510-30-M